DEPARTMENT OF THE INTERIOR

Fish and Wildlife Service

Environmental Review of Proposed Incidental Take Permit and Habitat Conservation Plan for the Kauai Island Utility Cooperative, Hawaii

AGENCY: Fish and Wildlife Service, Interior.

ACTION: Correction.

SUMMARY: The U.S. Fish and Wildlife Service is publishing this notice to correct a previous notice (document 04-16095) published on Thursday, July 15, 2004. On page 42447, under the heading DATES, the August 16, 2004, deadline for receipt of written comments is incorrect. The correct deadline is October 16, 2004. In addition, on page 42447 under the heading SUMMARY and on page 42448 under the heading SUPPLEMENTARY INFORMATION, Environmental Review, the previous notice incorrectly referred to preparation of a “joint Federal/State environmental document.” This reference is corrected to delete the words “joint” and “/State”. The environmental document is a Federal document prepared by the U.S. Fish and Wildlife Service.

Dated: August 4, 2004.
Don Weathers,
Acting Deputy Regional Director, Region 1, U.S. Fish and Wildlife Service.

[FR Doc. 04-19509 Filed 8-25-04; 8:45 am]

BILLING CODE 4310-55-P